DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of February 2005.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (no shift in production to a foreign country) have not been met.

TA-W-56,107; MI Windows & Doors, Inc., (formerly known as MI Home Products, Inc.), Hegins, PA.

TA-W-56,322; Roseburg Forest Products Particleboard Plant, a subsidiary of RLC Industries, Roseburg, OR.

TA-W-56,318 & A; Automatic Lathe Cutterhead, High Point, NC and Industrial Supply Co. Inc., subsidiary of Automatic Lathe Cutterhead, Hickory, NC.

TA-W-56,040; Solo Cup Company, Formerly Fondabrand, Including leased Workers of Spherion, Williamsburg, PA.

TA-W-56,311; Warp Knit Mills, Inc., Lincolnton, NC.

TA-W-56,229; Armstrong Wood Products, a division of Armstrong World Industries, Kensett, AR.

TA-W-56,026; Mayflower Vehicle Systems, Inc., South Charleston Facility, South Charleston, WV.

TA-W-56,099; Kenro, Inc., Fredonia, WI.

TA-W-56,251 & A, B, C; Hurd Millwork Co., Inc., a subsidiary of UIS, Inc., Medford, WI, Water Street Facility, Merrill, WI, Thomas Street Facility, Merrill, WI and Prospect Street Facility, Merrill, WI.

TA-W-56,083; Apex Pattern Company, Los Angeles, CA.

TA-W-56,194; Mid-West Spring and Stamping, including on-site leased workers of First Site Staffing, St. Paul Div., St. Paul, MN.

TA-W-56,304; Dimon, Inc., Rocky Mount, NC.

TA-W-56,241; Kleenn-Tex Industries, Inc., Plant #5, LaGrange, GA.

TA-W-55,942; Sierra Pine, Ltd, Springfield, OR.

TA-W-56,289; Box USA Group, Inc., a division of International Paper, Baltimore, MD.

TA-W-56,395; Xaloy, Inc., Tanner Div., New Castle, PA.

TA-W-56,413; Electra-Gear, a div. of Regal-Beloit Corp., Anaheim, CA.

TA-W-56,359; Chace Leather Products, Decker-Chace Div., Montgomery, PA.

TA-W-56,330; Iberia Sugar Cooperative, Inc., New Iberia, LA.

TA-W-56,483; Knowles Electronics LLC, Elgin, IL.

TA-W-56,495; Aurafin-Oroamerica, LLC, Providence Milling and Manufacturing Div., Providence, RI.

TA-W-56,474; Rexam Beverage Can Americas, a subsidiary of Rexam PLC, San Leandro, CA.

The workers firm does not produce an article as required for certification under section 222 of the Trade Act of 1974.

TA-W-56,362; Aetna, Inc., Tewksbury, MA.

TA-W-56,524; Jamaica Buick, LLC, Jamaica, NY.

TA-W-56,372; Dystar LP, Charlotte, NC.

TA-W-56,329; Spherion Corp., Spherion Pacific Workforce Enterprise LLC, Spherion-Contact Center Solutions, Las Vegas Facility, Las Vegas, NV.

TA-W-56,223 & A; Iomega, Corporation Headquarters, San Diego, CA and Iomega, Roy, UT.

TA-W-56,272; Geotrac, Inc., Norwalk, OH.

TA-W-56,086; Sony Electronics, Inc., Bristol-Regional Repair Center, including on-site leased workers from Remedy Staffing Services, Bristol, PA.

TA-W-56,155; All Access Apparel, Inc., Montebello, CA.

TA-W-56,312; CRG Computer Net Resource Group, High Point, NC.

TA-W-56,226; Phonak LLC, Also Known As Phonak, Inc., Rochester, MN.

TA-W-56,381; Dorby Frocks, Ltd, a division of Kellwood Co., Medley, FL.

TA-W-56,406; J-Star Bodco, Inc., Fort Atkinson, WI.

TA-W-56,285; Arcina, LLC, State College, PA.

TA-W-56,325; Nokia, Inc., Customer Care/After Market Services Site, Melbourne, FL.

TA-W-56,380; Watermark Paddlesports, Inc., Product Development Department and Cost Accounting Department, Arcata, CA.

TA-W-56,408; Emerson Electric Company, White-Rodgers Div., Affton, MO.

TA-W-56,455; Xsensible Footwear North America Ltd, Hickory, NC.

The investigation revealed that criterion (a)(2)(A)(I.A) and (a)(2)(B)(II.A) (no employment decline) has not been met.

TA-W-56,291; Stimson Lumber Co., a div. of Stimson, Forest Grove, OR.

TA-W-56,393; Morgan Advanced Materials & Technology, Inc., Carbon Technology Div., including on-site leased workers from PKS Associates, Exeter, RI.

TA-W-56,189; CDI Corp., Workers at Hewlett-Packard Co., Corvallis, OR.

TA-W-56,321; Honeywell Technology Solutions, Inc., formerly Known As Allied Signed Technical Solutions, a div. of Honeywell International, Inc., Rocky Mount, NC.

TA-W-56,569; Wickers Sportswear, Inc., Selmer, TN.

The investigation revealed that criterion (a)(2)(A)(I.B) (sales or production, or both, did not decline) and (a) (2)(B)(II.B) (has shifted production to a county not under the free trade agreement with U.S.) have not been met.

TA-W-56,320; Georgia Gulf Corp., Tiptonville, TN.

TA-W-56,252; Boise Cascade LLC, Boise Paper Solutions Location, International Falls, MN.

TA-W-56,344; Eagle Picher Automotive, Manchester, TN.

TA-W-56,274; Shane-Hunter, Inc., San Francisco, CA.

TA-W-56,216; Moyie Springs Lumber Company, a div. of Riley Creek Lumber Co., Moyie Springs, ID.

TA-W-56,135; Freescale Semiconductor, Tempe Final Manufacturing, formerly Motorola SPS, Inc., Tempe, AZ.

TA-W-56,387; Long Manufacturing, Thermal Products Div., a subsidiary of Dana Corp., Sheffield, PA.

The investigation revealed that criteria (3)(A) has not been met. The workers' firm (or subdivision) is not a supplier and the component parts it supplied to trade- affected companies did not account for at least 20 percent of the production or sales of the workers' firm.

TA-W-56,200; Multi-Plastics, including leased workers of M-Ploy Temporaries, Saegertown, PA.

The investigation revealed that criteria (2) has not been met. The workers firm (or subdivision) is not a supplier or downstream producer to trade-affected companies.

TA-W-56,317; Chelsea Grinding Co., Jackson, MS.

Affirmative Determinations for Worker Adjustment Assistance

The following certifications have been issued; the date following the company name and location of each determination references the impact date for all workers of such determination.

The following certifications have been issued. The requirements of (a)(2)(A) (increased imports) of Section 222 have been met.

TA-W-56,441; Lusero Corporation, d/b/a Moore Enterprises, Longmont, CO: December 30, 2003.

TA-W-56,305; Legend Softball, Inc., Tullahoma, TN: January 6, 2004.

TA-W-56,308; CFM Home Products, Skokie, IL: January 6, 2004.

TA-W-56,058; Harrison Publishing Co., Asheville, NC: November 14, 2003.

TA-W-56,347; Auburn Hosiery Mills, Inc., Auburn, KY: December 14, 2004.

TA-W-56,358; Hospital Specialty Co., a div. of The Tranzonic Companies, Cleveland, OH: December 20, 2003.

TA-W-56,364 & A & B; Dunmore Furniture Industries, Plant 1, Hickory, NC, Plant 2 Granite Falls, NC, Plant 3, Newton, NC: January 14, 2004.

TA-W-56,440; Bailey Knit Corp., Fort Payne, AL: January 26, 2004.

TA-W-56,526; M & F Western Products, Inc., Nocona, TX: January 10, 2004.

TA-W-56,418 & A; Pfaltzgraff Co., including on-site leased workers from Manpower, Inc., Contemporary Personnel, and Adecco, Thomasville, PA, Pfaltzgraff Co., Pfaltzgraf Distribution Center, including on-site leased workers from Manpower, Inc., and Adecco, York, PA: January 27, 2004.

TA-W-56,431; Kennedy Die Castings, Inc., including on-site leased workers from Excel Staffing, Worcester, MA: January 3, 2004.

TA-W-56,314; Southern Home Accents, Abbeville, SC: January 5, 2004.

TA-W-56,310; Howell Industries, Inc., d/b/a Oxford Automotive, Inc., Lapeer, MI: January 7, 2004.

TA-W-56,306; Jerome Fashions, South El Monte, CA: January 6, 2004.

TA-W-56,384; Valley Knit, Inc., Fort Payne, AL: January 21, 2004.

TA-W-56,341; Kaysam Worldwide, Inc., Totowa, NJ: January 14, 2004.

TA-W-56,520; Orgo-Thermit, Inc., a subsidiary of Elektro-Thermit, Inc., Manchester, NJ: February 7, 2004.

TA-W-56,480; Tyco Electronics, Tyco Printed Circuits Group, Dallas, OR: February 1, 2004.

TA-W-56,500; Burlington Rug Corp., including leased workers of Employer's Staffing of America, Yanoor Corporation Div., Monticello, AR: February 4, 2004.

TA-W-56,295 & A, B, C & D; Springs Industries, including on-site leased workers of Diversco, Sardis Plant, Sardis, MS, Wamsutta Plant, including on-site leased workers of Johnson Controls, Anderson, SC, Springs Industries Custom Designs, including on-site leased workers of Staffmark, Fullerton, CA, Ellijay Plant, including on-site leased workers of Defender Services, Ellijay, GA and Columbus Facility, Columbus, IN: January 5, 2004.

TA-W-56,296 & A, B; Charles Craft, Inc., Corporate Headquarters, Laurinburg, NC, Charles Craft Consumer Products LLC, a subsidiary of Charles Craft, Inc., including leased workers of Olsten Staffing, Laurinburg Plant, Laurinburg, NC and Charles Craft Yarns LLC, a subsidiary of Charles Craft, Inc., Siler City Plant, Siler City, NC: January 5, 2004.

TA-W-56,397; Bath Unlimited, d/b/a Franklin Brass, Rancho Dominquez, CA: January 20, 2004.

TA-W-56,379; Pride Manufacturing, Inc., Plants 1, 2 and 3, Florence, WI: January 19, 2004.

TA-W-56,169; JDS Uniphase, Ewing, NJ: December 6, 2003.

TA-W-56,288; RBX Industries, Inc., Colt, AR: January 4, 2004.

TA-W-56,523; Hunter Technologies, Inc., Montross, VA: February 1, 2004.

TA-W-56,411; Bayer Corporate and Business Services, LLC (BCBS), Information Systems Group, a subsidiary of Bayer Corporation, West Haven, CT: January 24, 2004.

TA-W-56,195; Crotty Corp., Gainsboro, TN: December 9, 2003.

TA-W-56,266; Louisville Bedding Co., Bunsen Plant, Louisville, KY and Munfordville Plant, Munfordville, KY: December 28, 2003.

TA-W-56,260; Wheatland Tube Co., Sharon Plant, Sharon, PA: December 17, 2003.

TA-W-56,259; Menasha Packaging Company, LLC, Display Group-Mequon, Mequon, WI: December 10, 2003.

TA-W-56,254; Textron Fastening Systems, Ring Screw Div., Warren, MI: December 20, 2003.

TA-W-56,048; Methode Electronics, Automotive Electronic Controls Div., Carthage, IL: November 17, 2003.

TA-W-56,342; Electric Mobility Corp., Sewell, NJ: January 14, 2004.

TA-W-56,340; The Keller Manufacturing Co., Inc., Louisville, KY: January 11, 2004.

TA-W-56,161; Brooks Hosiery, Inc., Sylvania, AL: December 6, 2003.

TA-W-56,361; Hedstrom Corp., Arlington Heights, IL: January 12, 2004.

TA-W-56,333; Westpoint Stevens, Bed Products Div., Clemson, SC: January 11, 2004.

TA-W-56,299; Atlas Textile Col, Inc., Commerce, CA: January 4, 2004.

TA-W-56,278; Lexington Die Casting, a div. of Lexington Precision Corp., including on-site leased workers of Kelly Services and Adecco Employment Services, Lakewood, NY: December 21, 2003.

TA-W-56,271; Houze Glass Corp., subsidiary of Wilson Brothers USA, Point Marion, PA: December 22, 2003.

TA-W-56,268; Gemini Textile Screenprint, Battleboro, NC: January 3, 2004.

TA-W-56,249; Spinnerin Dye LLC, including leased workers at Tempo, Net2staff and Brickforce, South Hackensack, NJ: December 21, 2003.

TA-W-56,165; Inland Press, Menomonee Falls, WI: December 6, 2003.

TA-W-56,292; Maui Pineapple Co., Kahului Cannery, Kahului, HI: December 15, 2003.

TA-W-56,234; ALT Sportswear, Inc., New York, NY: December 14, 2003.

TA-W-56,257; Ames True Temper, Plant #1, a subsidiary of Castle Harlan, Parkersburg, WV: October 8, 2004.

TA-W-56,247; The Horse Closet, Williansport, PA: December 21, 2003.

TA-W-56,349; Alexis Playsafe, Inc., a subsidiary of The Warren Featherbone Co., Gainesville, GA: January 14, 2004.

TA-W-56,290; Northeast Woodturning, Inc., West Farmington, ME: December 30, 2003.

TA-W-56,235; J & G Sewing Co., Inc., San Francisco, CA: December 18, 2003.

TA-W-56,336; Graco Children's Products, Inc., Elverson, PA: January 11, 2004.

TA-W-56,324; Southern Wood Products, a div. of Brown Jordan International, Sparta, TN: January 10, 2004.

TA-W-56,275; House of Brussels Chocolates, San Francisco, CA: December 14, 2003.

TA-W-56,273; National Spinning Operation, LLC, formerly known as National Spinning Co., LLC, Washington Yarn Div., a div. of National Spinning Co., Inc., Washington, NC: January 22, 2005.

TA-W-56,219; International Textile Group, Reidsville Weaving Plant, Burlington House Div., formerly Burlington Industries, Reidsville, NC: December 19, 2004.

TA-W-56,319; Diversified Engraving Stamp and Machine Co., LLC, formerly known as Diversified Engraving Stamp and Machine Co., Inc., Akron, OH: December 22, 2003.

TA-W-56,201; Ruffin Mold and Machine, including leased workers of Staffmark, Benton, AR: December 10, 2003.

TA-W-56,332; Thomson, Inc., Research & Development, Lancaster, PA: January 3, 2005.

TA-W-56,326; Electric Cords, Inc., Lebanon, KY: December 15, 2003.

The following certifications have been issued. The requirements of (a)(2)(B) (shift in production) of section 222 have been met.

TA-W-56,316; American Standard, Inc., Bath & Kitchen Div., Acrylics Department, Salem, OH: January 10, 2004.

TA-W-56,328; Art Leather Manufacturing Co., Inc., San Diego, CA: January 6, 2004.

TA-W-56,280; Hutchinson Seal, National O'Ring Div., Downey, CA: December 9, 2003.

TA-W-56,185; Adecco Staffing, Working at Steelcase, Inc., Wood Div., Fletcher, NC: November 23, 2003.

TA-W-56,462; Nakanishi Manufacturing Corporation, Rubber Seal Department, Winterville, GA: January 31, 2004.

TA-W-56,501; Decra Mold, a div,. of Woodgrain Milwork, Inc., including leased workers from Smith Staffing, Inc., Oklahoma City, OK: January 31, 2004.

TA-W-56,422; Johnson Controls, Inc., Glasgow, KY: January 25, 2004.

TA-W-56,488; Reed Manufacturing Co., Inc., Tupelo, MS: January 21, 2004.

TA-W-56,506; Futuresmart (Honeywell Security & Custom Electronics) Div. of Honeywell International, Draper UT: January 13, 2004.

TA-W-56,535; Kanthal Corp., Globar Div., Niagara Falls, NY: January 25, 2004.

TA-W-56,447; BASF Corp., Morganton Liquid Coatings Plant, Morganton, NC: January 31, 2004.

TA-W-56,419; Schneider Electric, Oxford Manufacturing Plant, Oxford, OH: January 27, 2004.

TA-W-56,345; Kohler Co., Searcy Stainless Steel Div., Searcy, AR: January 13, 2004.

TA-W-56,373; Halo Holdings LC, Hialeah, FL: January 19, 2004.

TA-W-56,503; Anthra Textiles Co., Inc., a subsidiary of Amicale Industries, Inc., Kulpmont, PA: January 6, 2004.

TA-W-56,527; SET Enterprises, Warren, MI: February 7, 2004.

TA-W-56,475; Neocare, a div. of Arrow International, San Antonio, TX: January 31, 2004.

TA-W-56,446; Old Mother Hubbard, Lowell, MA: January 26, 2004.

TA-W-56,307; Carrier Corp., Morrison, TN: January 6, 2004.

TA-W-56,445; International Apparel Group, LLC, Allendale, SC: January 28, 2004.

TA-W-56,416; Corning Gilbert, Inc., Glendale, AZ: January 25, 2004.

TA-W-56,396; The Goodyear Tire & Rubber Company, Engineered Products Div., Lincoln, NE: January 30, 2005.

TA-W-56,334; Westan, a div. of The E.H. Hall Co., Inc., Westfield, PA: January 11, 2004.

TA-W-56,327; YSD Industries (2004), Inc., Youngstown, OH: December 29, 2003.

TA-W-56,525; Tyco Healthcare, Inc., Retail Group, including on-site leased workers of Manpower, Inc., Waco, TX: February 4, 2004.

TA-W-56,424; Entran Devices, Inc., a subsidiary of Measurement Specialties, Inc., Fairfield, NJ: January 28, 2004.

TA-W-56,385; Cushion Craft Biederlack Corp., a subsidiary of Biederlack (US), Inc., Lisbon Falls, ME: January 19, 2004.

TA-W-56,348; Holt Hosiery Mills, Inc., Holt Hosiery Sewing Facility, Willard, NC: January 14, 2004.

TA-W-56,293; Dana Corporation, Heavy Vehicle Technologies and Systems Operations, Off-Highway North America Div., Statesville, NC: December 27, 2003.

TA-W-56,267; Woodsocket Spinning Co., a subsidiary of Amicale Industries, Inc., Charlotte, NC: December 28, 2003.

TA-W-56,248; Lear Corporation, Interior Systems, including on-site leased workers of Aerotek Commercial Staffing, Carlisle, PA: January 28, 2005.

TA-W-56,382; Paxar Corp., including on-site leased workers of Westaff and Manpower, Hillsville, VA: January 19, 2004.

TA-W-56,376; Blue Mountain Wallcoverings, Knoxville Facility, Knoxville, TN: January 17, 2004.

TA-W-56,423; Performance, Inc., Nova Designs Div., formerly Performance Direct, Inc., Graham, NC: January 26, 2004.

TA-W-56,378; Masonite Door Corporation, a div. of Masonite International, Richmond, IN: January 20, 2004.

TA-W-56,363; Occidental Chemical Corp., Pottstown, PA: January 18, 2004.

TA-W-56,356; Eaton Corporation, General Products Div., Air Controls Business Unit, including leased workers from Adecas and Person Industries, Roxboro, NC: January 18, 2004.

TA-W-56,352; Hydro Gate Corp., a subsidiary of Henry Pratt Co., a subsidiary of Mueller Co., including on-site leased workers of Manpower, Mile High, Commerce City, CO: December 20, 2003.

TA-W-56,302; Tillman of Yuma, Inc., subsidiary of John Tillman Co., Yuma, AZ: January 4, 2004.

TA-W-56,298; GST Autoleather, including on-site leased workers of Gage Personal, Mack Employment Services, Inc., Aerotek Commercial Staffing, Accountemps, Advance Personnel, Fleetwood, PA: February 4, 2005.

TA-W-56,265 & A, B; Fypon, Ltd, Stewartstown, PA, including on-site leased workers from Strategic Edge Solutions (SES), Seven Valleys, PA and including on-site leased workers from Strategic Edge Solutions (SES), Hunt Valley, MD: December 28, 2003.

TA-W-56,237; Tietex International, Ltd, Spartanburg, SC: December 8, 2003.

TA-W-56,339; Mastercraft Fabrics, LLC, Eagle Mountain Finishing, Cramerton, NC: January 12, 2004.

TA-W-56,313; Howmet Aluminum Castings, Hillsboro, Div., Hillsboro, TX: January 7, 2004.

TA-W-56,250; Bruner Ivory Handle Co., a Link Family of Handle Makers, Hope, AR: December 21, 2003.

TA-W-56,191; Nilfisk-Advance, Inc., Plymouth, MN: January 10, 2005.

TA-W-56,225; Beverly Creations, Inc., New York, NY: December 16, 2003.

TA-W-56,190; Knowles Electronics, LLC, Itasca, IL: December 6, 2003.

TA-W-56,146; Southern Ohio Fabricators, Inc., Batavia, OH: November 20, 2003.

TA-W-56,435; Nagle Industries, Cumberland City, TN: January 28, 2004.

TA-W-56,351; Avanex Corp., including on-site leased workers of Adecco and Manpower, Painted Post, NY: January 19, 2004.

TA-W-56,350; Woodbridge Corp., Whitmore Lake, MI: January 18, 2004.

TA-W-56,262; Hawk Motors, a div. of The Hawk Corp., Alton, IL: December 27, 2003.

TA-W-56,246; Glastic Molding, LLC, a subsidiary of Glastic Corp., Jefferson, OH: December 17, 2003.

TA-W-56,375; Cooper Power Systems, a div. of Cooper Industries, Ltd, including on-site leased workers of Staffmark and Olsten, Fayetteville, AR: January 20, 2004.

TA-W-56,279; Raytek Corporation, Santa Cruz, CA: December 14, 2003.

TA-W-55,958; LSI Logic Manufacturing Services, Gresham Operations, including leased workers of PRO Temporary Services, Gresham, OR: November 3, 2003.

TA-W-56,338; Wellington Cordage, LLC, Eatonton, GA: January 9, 2004.

TA-W-56,370; Meridian Automotive Systems, Dearborn, MI: December 29, 2003.

TA-W-56,429; Jowett Garments Factory, Inc., South El Monte, CA: January 21, 2004.

TA-W-56,492; Stabilus, Inc., Gastonia, NC: January 31, 2004.

TA-W-56,529; CTS Corp., Berne, IN: February 7, 2004.

TA-W-56,365; Glad Manufacturing, Cartersville, GA: January 13, 2004.

TA-W-56,367; Columbus Industries Texas LLP, a subsidiary of Columbus Industries, Inc., including leased workers of Allegiance Staffing, El Paso, TX: January 21, 2004.

TA-W-56,394; BBB Industries, OCA Division, Mira Loma, CA: January 19, 2004.

TA-W-56,224; Sanmina—SCI, Fremont, CA: November 18, 2003.

TA-W-56,264; Sanmina—SCI Corp., Pleasant Prairie, WI: December 20, 2003.

TA-W-56,270; Exxonmobil Chemical Co., Films Div., Macedon Scale Up Facility, a subsidiary of Exxonmobil Corp., Macedon, NY: December 20, 2003.

The following certifications have been issued. The requirement of upstream supplier to a trade certified primary firm has been met.

TA-W-55,877; Electronic Data Systems, on-site leased workers at Maxtor Corporation, Longmont, CA: October 21, 2003.

TA-W-55,978; Shakespeare Co., LLC, Monofilament Div., Columbia, SC: November 5, 2003.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department as determined that criterion (2) of Section 246 has not been met. Workers at the firm possess skills that are easily transferable.

TA-W-56,270; Exxonmobil Chemical Co., Films Division, Macedon Scale Up Facility, a subsidiary of Exxonmobil Corp., Macedon, NY

TA-W-56,264; Sanmina—SCI Corp., Pleasant Prairie, WI

TA-W-56,224; Sanmina—SCI, Fremont, CA

TA-W-56,205; France, A Scott Fetzer Co., including leased workers of Personnel Management, Inc., Fairview, TN

TA-W-56,367; Columbus Industries Texas LLP, a subsidiary of Columbus Industries, Inc., including leased workers of Allegiance Staffing, El Paso, TX

TA-W-56,365; Glad Manufacturing, Cartersville, GA

TA-W-56,529; CTS Corp., Berne, IN

TA-W-56,492; Stabilus, Inc., Gastonia, NC

TA-W-56,370; Meridian Automotive Systems, Dearborn, MI

TA-W-56,338; Wellington Cordage, LLC, Eatonton, GA

TA-W-56,319; Diversified Engraving Stamp and Machine Co., LLC, formerly known as Diversified Engraving Stamp and Machine Co., Inc., Akron, OH

TA-W-56,332; Thomson, Inc., Research & Development, Lancaster, PA

The Department as determined that criterion (1) of Section 246 has not been met. Workers at the firm are 50 years of age or older.

TA-W-56,394; BBB Industries, OCA Division, Mira Loma, CA

TA-W-56,429; Jowett Garments Factory, Inc., South El Monte, CA

TA-W-56,326; Electric Cords, Inc., Lebanon, KY

TA-W-56,201; Ruffin Mold and Machine, including leased workers of Staffmark, Benton, AR

Since the workers are denied eligibility to apply for TAA, the workers cannot be certified eligible for ATAA.

TA-W-56,329; Sperion Corp., Spherion Pacific Workforce Enterprise LLC, Spherion—Contact Center Solutions, Las Vegas Facility, Las Vegas, NV

TA-W-56,223 & A; Iomega, Corp. Headquarters, San Diego, CA and Iomega, Roy, UT

TA-W-56,272; Geotrac, Inc., Norwalk, OH

TA-W-56,155; All Access Apparel, Inc., Montebello, CA

TA-W-56,086; Sony Electronics, Inc., Bristol—Regional Repair Center, including on-site leased workers from Remedy Staffing Services, Bristol, PA

TA-W-56,312; CRG Computer Net Resource Group, High Point, NC

TA-W-56,226; Phonak LLC, also known as Phonak, Inc., Rochester, MN

TA-W-56,381; Dorby Frocks, Ltd, a div. of Kellwood Co., Medley, FL

TA-W-56,406; J-Star Bodco, Inc., Fort Atkinson, WI

TA-W-56,325; Nokia, Inc., Customer Care/After Market Services Site, Melbourne, FL

TA-W-56,285; Arcina, LLC, State College, PA

TA-W-56,380; Watermark Paddlesports, Inc., Product Development Department and Cost Accounting Department, Arcata, CA

TA-W-56,408; Emerson Electric Co., White-Rodgers Div., Affton, MO

TA-W-56,455; Xsensible Footwear North America Ltd, Hickory, NC

TA-W-56,040; Solo Cup Company, Formerly Fondabrand, including leased workers of Spherion, Williamsburg, PA.

TA-W-56,311; Warp Knit Mills, Inc., Lincolnton, NC.

TA-W-56,229; Armstrong Wood Products, a div. of Armstrong World Industries, Kensett, AR.

TA-W-56,026; Mayflower Vehicle Systems, Inc., South Charleston Facility, South Charleston, WV.

TA-W-56,099; Kenro, Inc., Fredonia, WI.

TA-W-56,251 & A, B, C; Hurd Millwork Company, Inc., a subsidiary of UIS, Inc., Medford, WI, Water Street Facility, Merrill, WI, Thomas Street Facility, Merrill, WI and Prospect Street Facility, Merrill, WI.

TA-W-56,083; Apex Pattern Company, Los Angeles, CA.

TA-W-56,194; Mid-West Spring and Stamping, including on-site leased workers of First Site Staffing, St. Paul Div., St. Paul, MN.

TA-W-56,304; Dimon, Inc., Rocky Mount, NC.

TA-W-56,241; Kleen-Tex Industries, Inc., Plant #5, LaGrange, GA.

TA-W-55,942; Sierra Pine, Ltd, Springfield, OR.

TA-W-56,289; Box USA Group, Inc., a div. of International Paper, Baltimore, MD.

TA-W-56,395; Xaloy, Inc., Tanner Div., New Castle, PA.

TA-W-56,413; Electra-Gear, a div. of Regal-Beloit Corp., Anaheim, CA.

TA-W-56,569; Wickers Sportswear, Inc., Selmer, TN.

TA-W-56,359; Chace Leather Products, Decker/Chace Div., Montgomery, PA.

TA-W-56,330; Iberia Sugar Cooperative, Inc., New Iberia, LA.

TA-W-56,483; Knowles Electronics LLC, Elgin, IL.

TA-W-56,474; Rexam Beverage Can Americas, a subsidiary of Rexam PLC, San Leandro, CA.

TA-W-56,291; Stimson Lumber Company, a div. of Stimson, Forest Grove, OR.

TA-W-56,393; Morgan Advanced Materials & Technology, Inc., Carbon Technology Div., including on-site leased workers from PKS Associates, Exeter, RI.

TA-W-56,321; Honeywell Technology Solutions, Inc., formerly known as Allied Signal Technical Solutions, a div. of Honeywell International, Inc. Rocky Mount, NC.

TA-W-56,320; Georgia Gulf Corp., Tiptonville, TN.

TA-W-56,252; Boise Cascade LLC, Boise Paper Solutions Location, International Falls, MN.

TA-W-056,344; Eagle Picker Automotive, Manchester, TN.

TA-W-56,274; Shane-Hunter, Inc., San Francisco, CA.

TA-W-56,216; Moyie Springs Lumber Company, a Div. of Riley Creek Lumber Co., Moyie Springs, ID.

TA-W-56,135; Freescale Semiconductor, Tempe Final Manufacturing, formerly Motorola SPS, Inc., Tempe, AZ.

TA-W-56,387; Long Manufacturing, Thermal Products Div., a subsidiary of Dana Corp., Sheffield, PA.

TA-W-56,200; Multi-Plastics, including leased workers of M-Ploy Temporaries, Saegertown, PA.

TA-W-56,189; CDI Corp., Workers at Hewlett-Packard Company, Corvallis, OR.

TA-W-56,495; Aurafin-Oroamerica, LLC, Providence Milling and Manufacturing Div., Providence, RI.

TA-W-56,317; Chelsea Grinding Company, Jackson, MS.

TA-W-52,399A; Morelock Enterprises, Closures Div., including leased workers from Staffing Services, Bend, OR.

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-56,347; Auburn Hosiery Mills, Inc., Auburn, KY: December 14, 2004.

TA-W-56,358; Hospital Specialty Co., a div. of The Tranzonic Companies, Cleveland, OH: December 20, 2003.

TA-W-56,364 & A & B; Dunmore Furniture Industries, Plant 1, Hickory, NC, Plant 2 Granite Falls, NC, Plant 3, Newton, NC: January 14, 2004.

TA-W-56,440; Bailey Knit Corp., Fort Payne, AL: January 26, 2004.

TA-W-56,526; M & F Western Products, Inc., Nocona, TX: January 10, 2004.

TA-W-56,418 & A; Pfaltzgraff Co., including on-site leased workers from Manpower, Inc., Contemporary Personnel, and Adecco, Thomasville, PA, Pfaltzgraff Co., Pfaltzgraff Distribution Center, including on-site leased workers from Manpower, Inc., and Adecco, York, PA: January 27, 2004.

TA-W-56,431; Kennedy Die Castings, Inc., including on-site leased workers from Excel Staffing, Worcester, MA: January 3, 2004.

TA-W-56,314; Southern Home Accents, Abbeville, SC: January 5, 2004.

TA-W-56,310; Howell Industries, Inc., d/b/a Oxford Automotive, Inc., Lapeer, MI: January 7, 2004.

TA-W-56,306; Jerome Fashions, South El Monte, CA: January 6, 2004.

TA-W-56,384; Valley Knit, Inc., Fort Payne, AL: January 21, 2004.

TA-W-56,341; Kaysam Worldwide, Inc., Totowa, NJ: January 14, 2004.

TA-W-56,520; Orgo-Thermit, Inc., a subsidiary of Elektro-Thermit, Inc., Manchester, NJ: February 7, 2004.

TA-W-56,480; Tyco Electronics, Tyco Printed Circuits Group, Dallas, OR: February 1, 2004.

TA-W-56,500; Burlington Rug Corp., including leased workers of Employer's Staffing of America, Yanoor Corporation Div., Monticello, AR: February 4, 2004.

TA-W-56,295 & A, B, C & D; Springs Industries, including on-site leased workers of Diversco, Sardis Plant, Sardis, MS, Wamsutta Plant, including on-site leased workers of Johnson Controls, Anderson, SC, Springs Industries Custom Designs, including on-site leased workers of Staffmark, Fullerton, CA, Ellijay Plant, including on-site leased workers of Defender Services, Ellijay, GA and Columbus Facility, Columbus, IN: January 5, 2004.

TA-W-56,296 & A, B; Charles Craft, Inc., Corporate Headquarters, Laurinburg, NC, Charles Craft Consumer Products LLC, a subsidiary of Charles Craft, Inc., including leased workers of Olsten Staffing, Laurinburg Plant, Laurinburg, NC and Charles Craft Yarns LLC, a subsidiary of Charles Craft, Inc., Siler City Plant, Siler City, NC: January 5, 2004.

TA-W-56,397; Bath Unlimited, d/b/a Franklin Brass, Rancho Dominquez, CA: January 20, 2004.

TA-W-56,379; Pride Manufacturing, Inc., Plants 1, 2 and 3, Florence, WI: January 19, 2004.

TA-W-56,169; JDS Uniphase, Ewing, NJ: December 6, 2003.

TA-W-56,288; RBX Industries, Inc., Colt, AR: January 4, 2004.

TA-W-56,523; Hunter Technologies, Inc., Montross, VA: February 1, 2004.

TA-W-56,411; Bayer Corporate and Business Services, LLC (BCBS), Information Systems Group, a subsidiary of Bayer Corporation, West Haven, CT: January 24, 2004.

TA-W-56,195; Crotty Corp., Gainsboro, TN: December 9, 2003.

TA-W-56,266; Louisville Bedding Co., Bunsen Plant, Louisville, KY and Munfordville Plant, Nunfordville, KY: December 28, 2003.

TA-W-56,260; Wheatland Tube Co., Sharon Plant, Sharon, PA: December 17, 2003.

TA-W-56,259; Menasha Packaging Company, LLC, Display Group-Mequon, Mequon, WI: December 10, 2003.

TA-W-56,254; Textron Fastening Systems, Ring Screw Div., Warren, MI: December 20, 2003.

TA-W-56,048; Methode Electronics, Automotive Electronic Controls Div., Carthage, IL: November 17, 2003.

TA-W-56,342; Electric Mobility Corp., Sewell, NJ: January 14, 2004.

TA-W-56,340; The Keller Manufacturing Co., Inc., Louisville, KY: January 11, 2004.

TA-W-56,161; Brooks Hosiery, Inc., Sylvania, AL: December 6, 2003.

TA-W-56,361; Hedstrom Corp., Arlington Heights, IL: January 12, 2004.

TA-W-56,333; Westpoint Stevens, Bed Products Div., Clemson, SC: January 11, 2004.

TA-W-56,299; Atlas Textile Col, Inc., Commerce, CA: January 4, 2004.

TA-W-56,278; Lexington Die Casting, a div. of Lexington Precision Corp., including on-site leased workers of Kelly Services and Adecco Employment Services, Lakewood, NY: December 21, 2003.

TA-W-56,271; Houze Glass Corp., subsidiary of Wilson Brothers USA, Point Marion, PA: December 22, 2003.

TA-W-56,268; Gemini Textile Screenprint, Battleboro, NC: January 3, 2004.

TA-W-56,249; Spinnerin Dye LLC, including leased workers at Tempo, Net2staff and Brickforce, South Hackensack, NJ: December 21, 2003.

TA-W-56,165; Inland Press, Menomonee Falls, WI: December 6, 2003.

TA-W-56,292; Maui Pineapple Co., Kahului Cannery, Kahului, HI: December 15, 2003.

TA-W-56,234; ALT Sportswear, Inc., New York, NY: December 14, 2003.

TA-W-56,257; Ames True Temper, Plant #1, a subsidiary of Castle Harlan, Parkersburg, WV: October 8, 2004.

TA-W-56,247; The Horse Closet, Williamsport, PA: December 21, 2003.

TA-W-56,349; Alexis Playsafe, Inc., a subsidiary of The Warren Featherbone Co., Gainesville, GA: January 14, 2004.

TA-W-56,290; Northeast Woodturning, Inc., West Farmington, ME: December 30, 2003.

TA-W-56,235; J & G Sewing Co., Inc., San Francisco, CA: December 18, 2003.

TA-W-56,336; Graco Children's Products, Inc., Elverson, PA: January 11, 2004.

TA-W-56,324; Southern Wood Products, a div. of Brown Jordan International, Sparta, TN: January 10, 2004.

TA-W-56,275; House of Brussels Chocolates, San Francisco, CA: December 14, 2003.

TA-W-56,273; National Spinning Operation, LLC, formerly known as National Spinning Co., LLC, Washington Yarn Div., a div. of National Spinning Co., Inc., Washington, NC: January 22, 2005.

TA-W-56,219; International Textile Group, Reidsville Weaving Plant, Burlington House Div., formerly Burlington Industries, Reidsville, NC: December 19, 2004.

TA-W-56,422; Johnson Controls, Inc., Glasgow, KY: January 25, 2004.

TA-W-56,488; Reed Manufacturing Co., Inc., Tupelo, MS: January 21, 2004.

TA-W-56,506; Futuresmart (Honeywell Security & Custom Electronics) Div. of Honeywell International, Draper UT: January 13, 2004.

TA-W-56,535; Kanthal Corp., Globar Div., Niagara Falls, NY: January 25, 2004.

TA-W-56,447; BASF Corp., Morganton Liquid Coatings Plant, Morganton, NC: January 31, 2004.

TA-W-56,419; Schneider Electric, Oxford Manufacturing Plant, Oxford, OH: January 27, 2004.

TA-W-56,345; Kohler Co., Searcy Stainless Steel Div., Searcy, AR: January 13, 2004.

TA-W-56,373; Halo Holdings LC, Hialeah, FL: January 19, 2004.

TA-W-56,503; Anthra Textiles Co., Inc., a subsidiary of Amicale Industries, Inc., Kulpmont, PA: January 6, 2004.

TA-W-56,527; SET Enterprises, Warren, MI: February 7, 2004.

TA-W-56,475; Neocare, a div. of Arrow International, San Antonio, TX: January 31, 2004.

TA-W-56,446; Old Mother Hubbard, Lowell, MA: January 26, 2004.

TA-W-56,307; Carrier Corp., Morrison, TN: January 6, 2004.

TA-W-56,445; International Apparel Group, LLC, Allendale, SC: January 28, 2004.

TA-W-56,416; Corning Gilbert, Inc., Glendale, AZ: January 25, 2004.

TA-W-56,396; The Goodyear Tire & Rubber Company, Engineered Products Div., Lincoln, NE: January 30, 2005.

TA-W-56,334; Westan, a div. of The E.H. Hall Co., Inc., Westfield, PA: January 11, 2004.

TA-W-56,327; YSD Industries (2004), Inc., Youngstown, OH: December 29, 2003.

TA-W-56,525; Tyco Healthcare, Inc., Retail Group, including on-site leased workers of Manpower, Inc., Waco, TX: February 4, 2004.

TA-W-56,424; Entran Devices, Inc., a subsidiary of Measurement Specialties, Inc., Fairfield, NJ: January 28, 2004.

TA-W-56,385; Cushion Craft Biederlack Corp., a subsidiary of Biederlack (US), Inc., Lisbon Falls, ME: January 19, 2004.

TA-W-56,348; Holt Hosiery Mills, Inc., Holt Hosiery Sewing Facility, Willard, NC: January 14, 2004.

TA-W-56,293; Dana Corporation, Heavy Vehicle Technologies and Systems Operations, Off-Highway North America Div., Statesville, NC: December 27, 2003.

TA-W-56,267; Woodsocket Spinning Co., a subsidiary of Amicale Industries, Inc., Charlotte, NC: December 28, 2003.

TA-W-56,248; Lear Corporation, Interior Systems, including on-site leased workers of Aerotek Commercial Staffing, Carlisle, PA: January 28, 2005.

TA-W-56,382; Paxar Corp., including on-site leased workers of Westaff and Manpower, Hillsville, VA: January 19, 2004.

TA-W-56,376; Blue Mountain Wallcoverings, Knoxville Facility, Knoxville, TN: January 17, 2004.

TA-W-56,423; Performance, Inc., Nova Designs Div., formerly Performance Direct, Inc., Graham, NC: January 26, 2004.

TA-W-56,378; Masonite Door Corporation, a div. of Masonite International, Richmond, IN: January 20, 2004.

TA-W-56,363; Occidental Chemical Corp., Pottstown, PA: January 18, 2004.

TA-W-56,356; Eaton Corporation, General Products Div., Air Controls Business Unit, including leased workers from Adecas and Person Industries, Roxboro, NC: January 18, 2004.

TA-W-56,352; Hydro Gate Corp., a subsidiary of Henry Pratt Co., a subsidiary of Mueller Co., including on-site leased workers of Manpower, Mile High, Commerce City, CO: December 20, 2003.

TA-W-56,302; Tillman of Yuma, Inc., subsidiary of John Tillman Co., Yuma, AZ: January 4, 2004.

TA-W-56,298; GST Autoleather, including on-site leased workers of Gage Personal, Mack Employment Services, Inc., Aerotek Commercial Staffing, Accountemps, Advance Personnel, Fleetwood, PA: February 4, 2005.

TA-W-56,265 & A, B; Fypon, Ltd, Stewartstown, PA, including on-site leased workers from Strategic Edge Solutions (SES), Seven Valleys, PA and including on-site leased workers from Strategic Edge Solutions (SES), Hunt Valley, MD: December 28, 2003.

TA-W-56,237; Tietex International, Ltd, Spartanburg, SC: December 8, 2003.

TA-W-56,339; Mastercraft Fabrics, LLC, Eagle Mountain Finishing, Cramerton, NC: January 12, 2004.

TA-W-56,313; Howmet Aluminum Castings, Hillsboro, Div., Hillsboro, TX: January 7, 2004.

TA-W-56,250; Bruner Ivory Handle Co., a Link Family of Handle Makers, Hope, AR: December 21, 2003.

TA-W-56,191; Nilfisk-Advance, Inc., Plymouth, MN: January 10, 2005.

TA-W-56,225; Beverly Creations, Inc., New York, NY: December 16, 2003.

TA-W-56,190; Knowles Electronics, LLC, Itasca, IL: December 6, 2003.

TA-W-56,146; Southern Ohio Fabricators, Inc., Batavia, OH: November 20, 2003.

TA-W-56,435; Nagle Industries, Cumberland City, TN: January 28, 2004.

TA-W-56,351; Avanex Corp., including on-site leased workers of Adecco and Manpower, Painted Post, NY: January 19, 2004.

TA-W-56,350; Woodbridge Corp., Whitmore Lake, MI: January 18, 2004.

TA-W-56,262; Hawk Motors, a div. of The Hawk Corp., Alton, IL: December 27, 2003.

TA-W-56,246; Glastic Molding, LLC, a subsidiary of Glastic Corp., Jefferson, OH: December 17, 2003.

TA-W-56,375; Cooper Power Systems, a div. of Cooper Industries, Ltd, including on-site leased workers of Staffmark and Olsten, Fayetteville, AR: January 20, 2004.

TA-W-56,279; Raytek Corporation, Santa Cruz, CA: December 14, 2003.

TA-W-55,958; LSI Logic Manufacturing Services, Gresham Operations, including leased workers of PRO Temporary Services, Gresham, OR: November 3, 2003.

I hereby certify that the aforementioned determinations were issued during the month of February 2005. Copies of these determinations are available for inspection in Room C-5311, U.S. Department of Labor, 200 Constitution Avenue, NW., Washington, DC 20210 during normal business hours or will be mailed to persons who write to the above address.

Dated: March 2, 2005.
Timothy Sullivan,
Director, Division of Trade Adjustment Assistance.

[FR Doc. E5-993 Filed 3-8-05; 8:45 am]

BILLING CODE 4510-30-P